CONSUMER PRODUCT SAFETY COMMISSION

Agency Information Collection Activities; Submission for Office of Management and Budget Review; Comment Request; Safety Standard for Multi-Purpose Lighters

AGENCY: Consumer Product Safety Commission.

ACTION: Notice.

SUMMARY: The Consumer Product Safety Commission (“CPSC” or “Commission”) is announcing that a proposed collection of information has been submitted to the Office of Management and Budget (“OMB”) for review and clearance under the Paperwork Reduction Act of 1995 (“PRA”).

DATES: Fax written comments on the collection of information by October 1, 2010.

ADDRESSES: To ensure that comments on the information collection are received, OMB recommends that written comments be faxed to the Office of Information and Regulatory Affairs, OMB, Attn: CPSC Desk Officer, Fax: 202-395-6974, or e-mailed to oira_submission@omb.eop.gov. Written comments should be captioned “Safety Standard for Multi-Purpose Lighters.” All comments should be identified with the OMB Control Number 3041-0130. In addition, written comments should also be submitted by mail/hand delivery/courier (for paper, disk, or CD-ROM submissions), preferably in five copies, to: Office of the Secretary, Consumer Product Safety Commission, Room 820, 4330 East West Highway, Bethesda, MD 20814; telephone (301) 504-7923.

FOR FURTHER INFORMATION CONTACT: Linda Glatz, Division of Policy and Planning, Office of Information Technology, Consumer Product Safety Commission, 4330 East West Highway, Bethesda, MD 20814, 301-504-7671, lglatz@cpsc.gov.

SUPPLEMENTARY INFORMATION: In compliance with 44 U.S.C. 3507, the CPSC has submitted the following proposed collection of information to OMB for review and clearance.

Safety Standard for Multi-Purpose Lighters—(OMB Control Number 3041-0130-Extention). Section 14(a)(1) of the Consumer Product Safety Act (“CPSA”) (15 U.S.C. 2063(a)) requires manufacturers, importers, and private labelers of a consumer product subject to a consumer product safety standard under the CPSA or similar rule, ban, standard, or regulation under any other act enforced by the Commission to issue a certificate stating that the product complies with all applicable rules, bans, standards or regulations.

Section 14(b) of the CPSA (15 U.S.C. 2063(b)) authorizes the Commission to issue regulations to prescribe a reasonable testing program to support certificates of compliance with a consumer product safety standard under the CPSA or similar rule, ban, standard, or regulation under any other act enforced by the Commission. Section 16(b) of the CPSA (15 U.S.C 2065(b)) authorizes the Commission to issue rules to require that firms establish and maintain records to permit the Commission to determine compliance with rules issued under the authority of the CPSA.

The Commission has issued regulations prescribing requirements for a reasonable testing program to support certificates of compliance with the standard for multi-purpose lighters. These regulations require manufacturers and importers to submit a description of each model of lighter, results of prototype qualification tests for compliance with the standard, and other information before the introduction of each model of lighter into commerce. These regulations also require manufacturers, importers, and private labelers of multi-purpose lighters to establish and maintain records to demonstrate successful completion of all required tests to support the certificates of compliance that they issue. 16 CFR part 1212, subpart B.

The Commission uses the information compiled and maintained by manufacturers, importers, and private labelers of multi-purpose lighters to protect consumers from risks of accidental deaths and burn injuries associated with those lighters. More specifically, the Commission uses this information to determine whether lighters comply with the standard by resisting operation by young children. The Commission also uses this information to obtain corrective actions if multi-purpose lighters fail to comply with the standard in a manner that creates a substantial risk of injury to the public.

In the Federal Register of May 18, 2010 (75 FR 27731), the CPSC published a 60-day notice requesting public comment on the proposed collection of information. No comments were received.

We estimate the burden of this collection of information as follows. The cost of the rule's testing, reporting, recordkeeping, and other certification-related provisions is comprised of time spent by testing organizations on behalf of manufacturers and importers, and time spent by firms to prepare, maintain, and submit records to CPSC. There are currently an estimated 59 firms that import, distribute and/or sell multi-purpose lighters in the United States, which is a subset of the approximately 145 firms total that may import, distribute and/or sell these lighters in the future. With a few exceptions, most manufacturers and importers have more than one model, currently ranging from 1 to 130 models for each firm. Based on past experience, an estimate of two models per firm is a reasonable number to use for calculating burden. Each manufacturer would spend approximately 50 hours per model. Therefore, the total annual amount of time that will be required for complying with the testing, recordkeeping, and reporting requirements of the rule is approximately 5,900 hours (59 firms × 2 models × 50 hours = 5,900 total hours requested). The annualized cost to respondents for the hour burden for collection of information is $335,887 based on a total of 5,900 hours at $56.93 per hour (based on total compensation of all management, professional, and related occupations in goods-producing industries in the United States, September 2009, Bureau of Labor Statistics).

The annual cost of the rule to the Federal Government is comprised chiefly of the Commission's resources for compliance and enforcement activities. An estimated 2 full-time-equivalent (“FTE”) staff years of effort are required to administer the rule annually. The Commission's cost for these staff activities is approximately $170,000 per FTE. Thus, the annual cost of enforcing the rule to the Federal Government is estimated to be about $340,000. This cost estimate includes the agency's enforcement and field staff costs.

Dated: August 26, 2010.
Alberta Mills,
Acting Secretary, Consumer Product Safety Commission.

[FR Doc. 2010-21891 Filed 8-31-10; 8:45 am]

BILLING CODE 6355-01-P